DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 20, 2006.

Interested persons are invited to submit written comments regarding the subject matter of the investigations to the Director, Division of Trade Adjustment Assistance, at the address shown below, not later than January 20, 2006.

The petitions filed in this case are available for inspection at the Office of the Director, Division of Trade Adjustment Assistance, Employment and Training Administration, U.S. Department of Labor, Room C-5311, 200 Constitution Avenue, NW., Washington, DC 20210.

Signed at Washington, DC, this 3rd day of January 2006.
Erica R. Cantor,
Director, Division of Trade Adjustment Assistance.

Appendix
[TAA petitions instituted between 12/12/05 and 12/23/05]
TA-W | Subject firm (petitioners) | Location | Date of institution | Date of petition
58491 | Hanes Dye and Finishing Co. (Comp) | Winston-Salem, NC | 12/12/05 | 12/09/05
58492 | Ormet Aluminum Mill Products (USWA) | Hannibal, OH | 12/12/05 | 12/09/05
58493 | River City Plastic (Wkrs) | Three Rivers, MI | 12/12/05 | 12/09/05
58494 | Lear Corporation (UAW) | Covington, VA | 12/12/05 | 12/08/05
58495 | Hoover Company (The) (IBEW) | North Canton, OH | 12/12/05 | 12/09/05
58496 | Bosch Fuel Systems (State) | Kentwood, MI | 12/12/05 | 12/07/05
58497 | Furniture Makers Supply Company (Comp) | Hudson, NC | 12/12/05 | 12/08/05
58498 | McLaughlin Company (UAW) | Petosky, MI | 12/12/05 | 12/09/05
58499 | Metaldyne (UE) | Edon, OH | 12/13/05 | 12/01/05
58500 | American Greetings (Comp) | Lafayette, TN | 12/13/05 | 12/08/05
58501 | Tinnerman Palnut (Comp) | Flemingsburg, KY | 12/13/05 | 12/12/05
58502 | Wella Manufacturing of Virginia (Comp) | Richmond, VA | 12/13/05 | 11/28/05
58503 | Kentucky Derby Hosiery (Wkrs) | Hillsvill, VA | 12/13/05 | 12/12/05
58504 | Yankee Plastics, Inc. (State) | Easthampton, MA | 12/14/05 | 12/14/05
58505 | Rock Tenn Company (State) | Piedmont, SC | 12/14/05 | 12/06/05
58506 | Alpha Sintered Metals, Inc. (Comp) | Ridgway, PA | 12/14/05 | 12/14/05
58507 | J.C. Penney (Wkrs) | Wauwatosa, WI | 12/16/05 | 12/15/05
58508 | Occidental Chemica Corp. (OxyChem) (State) | New Castle, DE | 12/16/05 | 12/15/05
58509 | Advance Tool (State) | Blaine, MN | 12/16/05 | 12/16/05
58510 | Cooper Tools (Wkrs) | York, PA | 12/19/05 | 12/16/05
58511 | Kessler Industries, Inc. (Comp) | El Paso, TX | 12/19/05 | 12/14/05
58512 | Tri-State Hospital Supply Corp. (Comp) | Salisbury, NC | 12/19/05 | 12/16/05
58513 | Apricot, Inc. (State) | Hartford, NC | 12/19/05 | 12/07/05
58514 | Liberty Screenprint (Comp) | Madison, NC | 12/19/05 | 11/29/05
58515 | Wellington Leisure Products (State) | Granite Quarry, NC | 12/19/05 | 11/28/05
58516 | Hurley International, LLC (State) | Costa Mesa, CA | 12/19/05 | 12/19/05
58517 | Mittal Steel (Comp) | Weirton, WV | 12/19/05 | 12/12/05
58518 | Wyeth Pharmaceutcials (Comp) | Chazy, NY | 12/20/05 | 12/19/05
58519 | Tri-Mountain Machining (State) | Idledale, CO | 12/20/05 | 12/19/05
58520 | Calley and Currier Company (Comp) | Bristol, NH | 12/20/05 | 12/12/05
58521 | Dan River, Inc. (Comp) | Brookneal, VA | 12/20/05 | 12/19/05
58522 | DMB Hosiery, Inc. (Comp) | Fort Payne, AL | 12/20/05 | 12/13/05
58523 | Jasco Knitting Corp. (Wkrs) | Linden, NJ | 12/20/05 | 12/06/05
58524 | Hi-Tech Plastics (Comp) | Cambridge, MD | 12/20/05 | 12/15/05
58525 | Gelita USA (Union) | Seargant Bluff, IA | 12/20/05 | 12/20/05
58526 | IPF Management Corp. (State) | Paterson, NJ | 12/21/05 | 12/20/05
58527 | Techpack America Cosmetic Packaging, LP (Comp) | Morristown, TN | 12/21/05 | 12/20/05
58528 | Tyco Electronics—GADAN (Comp) | Franklin, KY | 12/21/05 | 12/13/05
58529 | Collins and Aikman (Wkrs) | Oklahoma City, OK | 12/21/05 | 12/20/05
58530 | Fiskars Brands, Inc. (Comp) | Wausau, WI | 12/21/05 | 12/05/05
58531 | Feeneys/Knafe and Vogt (Wkrs) | Muncie, IN | 12/21/05 | 12/13/05
58532 | Imenco Corp. (Comp) | Boy City, MI | 12/21/05 | 12/07/05
58533 | Selco, Inc. (Comp) | Austin, TX | 12/21/05 | 12/21/05
58534 | Robert Warren, LLC (State) | North Haven, CT | 12/22/05 | 12/21/05
58535 | RWC, Inc. (State) | Bay City, MI | 12/22/05 | 12/14/05
58536 | Leggett and Platt Automotive (Comp) | Archbold, OH | 12/22/05 | 12/21/05
58537 | Federal Signal Corporation (Comp) | Appleton, WI | 12/22/05 | 12/22/05
58538 | W.E. Wrights Co. (State) | W. Warren, MA | 12/22/05 | 12/17/05
58539 | Foamex International, Inc. (Comp) | Stocktown, PA | 12/22/05 | 12/15/05
58540 | Cytech Hardwoods, Inc. (Wkrs) | Amsterdam, NY | 12/22/05 | 12/22/05
58541 | TFL USA/Canada, Inc. (Comp) | Greensboro, NC | 12/22/05 | 12/19/05
58542 | River City Plastic (State) | Vicksburg, MI | 12/23/05 | 12/09/05
58543 | Procon Products (Comp) | Murfreesboro, TN | 12/23/05 | 12/09/05
58544 | Wickers Sportswear, Inc. (Comp) | Wolfeboro, NH | 12/23/05 | 12/21/05
58545 | Garner Automotive Electrical, Inc. (Comp) | Lexington, TN | 12/23/05 | 12/23/05
58546 | Hamilton Sundstrand (UAW) | Rockford, IL | 12/23/05 | 12/22/05

[FR Doc. E6-109 Filed 1-9-06; 8:45 am]

BILLING CODE 4510-30-P